DEPARTMENT OF ENERGY

Federal Energy Regulatory Commission

Sunshine Act Meeting Notice

September 9, 2010.

The following notice of meeting is published pursuant to section 3(a) of the government in the Sunshine Act (Pub. L. No. 94-409), 5 U.S.C. 552b:

AGENCY HOLDING MEETING: Federal Energy Regulatory Commission.

DATE AND TIME: September 16, 2010, 10 a.m.

PLACE: Room 2C, 888 First Street, NE., Washington, DC 20426.

STATUS: Open.

MATTERS TO BE CONSIDERED: Agenda. Note—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

962nd—Meeting
September 16, 2010, 10 a.m.
Item No. | Docket No. | Company
Administrative
A-1 | AD02-1-000 | Agency Administrative Matters.
A-2 | AD02-7-000 | Customer Matters, Reliability, Security and Market Operations.
Electric
E-1 | EL10-29-000 | Terra-Gen Dixie Valley, LLC, TGP Dixie Development Company, LLC, and New York Canyon, LLC.
| EL10-36-000 | Green Borders Geothermal, LLC v. Terra-Gen Dixie Valley, LLC.
E-2 | RR09-7-000 | North American Electric Reliability Corporation.
| AD10-14-000 | Reliability Standards Development and NERC and Regional Entity Enforcement.
E-3 | RR09-6-001 | North American Electric Reliability Corporation.
E-4 | RM10-22-000 | Promoting a Competitive Market for Capacity Reassignment.
E-5 | OMITTED
E-6 | OMITTED
E-7 | RD10-5-000 | North American Electric Reliability Corporation.
E-8 | RD09-5-000 | North American Electric Reliability Corporation.
E-9 | ER08-858-000, ER08-858-001, ER08-867-000, ER08-867-002 | PJM Interconnection, L.L.C. and New York Independent System Operator, Inc.
| EL02-23-000, EL02-23-014 | Consolidated Edison Company of New York, Inc. v. Public Service Electric and Gas Company, PJM Interconnection, L.L.C. and New York Independent System Operator, Inc.
E-10 | ER05-1410-016, EL05-148-016, ER09-412-011 | PJM Interconnection, L.L.C.
E-11 | ER10-1418-000 | Exelon Generation Company, LLC.
E-12 | EL10-23-001, EL10-23-002 | Sagebrush, a California Partnership.
E-13 | EL00-66-012 | Louisiana Public Service Commission and the Council of the City of New Orleans v. Entergy Corporation.
E-14 | EL10-22-001 | Tres Amigas LLC.
E-15 | ER10-396-001 | Tres Amigas LLC.
E-16 | ER09-1039-001 | Southwest Power Pool, Inc.
E-17 | ER09-1050-003, ER09-1192-000 | Southwest Power Pool, Inc.
Multi-Industry
M-1 | PL10-4-000 | Enforcement of Statutes, Regulations and Orders.
Hydro
H-1 | P-2210-192 | Appalachian Power Company.
H-2 | P-400-054 | Public Service Company of Colorado.
H-3 | P-12646-012 | City of Broken Bow, Oklahoma.
H-4 | RM10-27-001 | Update of the Federal Energy Regulatory Commission's Fees Schedule for Annual Charges for the Use of Government Lands.
Certificates
C-1 | CP10-14-000 | Kern River Gas Transmission Company.
C-2 | CP10-255-000 | Texas Gas Transmission, LLC.
C-3 | CP10-470-000 | El Paso Natural Gas Company.
C-4 | CP10-136-000 | Empire Pipeline, Inc.
C-5 | CP10-433-000 | Iroquois Gas Transmission System, L.P.
C-6 | CP09-161-001 | Bison Pipeline LLC.

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2010-22942 Filed 9-10-10; 11:15 am]

BILLING CODE 6717-01-P